DEPARTMENT OF COMMERCE

National Oceanic and Atmospheric Administration

[Docket No. 040702199-4199-01]

NOAA Strategic Plan

AGENCY: National Oceanic and Atmospheric Administration (NOAA), Commerce.

ACTION: Notice of intent to revised NOAA's Strategic Plan; request for comments.

SUMMARY: The National Oceanic and Atmospheric Administration (NOAA) is the premier United States agency for environmental assessment, prediction and management providing broad benefits to the national economy, public safety and environment. NOAA is drafting a strategic plan for the period 2005-2011 that builds on the NOAA Strategic Plan for 2003-2008 and reflects updated stakeholder priorities, recent external events, and change to NOAA's operations. This version of the plan is the result of over six months of data collection and evaluation. It establishes the goals for NOAA and the approaches taken to account for results. NOAA has sought advice from stakeholders at forums in San Diego on September 24, 2003, Seattle on January 12, 2004, and Washington, DC, on April 16, 2004, and at other meetings around the country. NOAA is now seeking broader public review of the Strategic Plan. NOAA encourages all stakeholders and users to revivew the Plan and provide comments. All comments received will be reviewed and considered in the final drafting of NOAA's Strategic Plan.

DATES: Public comments on t his document must be received at the appropriate mailing or e-mail address (see ADDRESSES) on or before 5 p.m., local time, August 27, 2004.

ADDRESSES: Send comments to Dr. James H. Butler, NOAA Strategic Planning Office, Office of Program Planning and Integration, National Oceanic and Atmospheric Administration (NOAA), Room 15755, 1315 East-West Highway, Silver Spring, MD 20910. Comments may be submitted via e-mail to strategic.planning@noaa.gov. The draft NOAA Strategic Plan has been posted at http://www.spo.noaa.gov/, and NOAA will post the final Strategic Plan at http://www.spo.noaa.gov/.

FOR FURTHER INFORMATION CONTACT: Mr. Joshua Lott, phone: 301-713-1622, Extension 210, fax: 301-713-0585.

Dated: July 13, 2004.
Mary M. Glackin,
NOAA Assistant Administrator for Program Planning and Integration.

[FR Doc. 04-16184 Filed 7-15-04; 8:45 am]

BILLING CODE 3510-NW-M